DEPARTMENT OF ENERGY

Federal Energy Regulatory Commission

Combined Notice of Filings # 1

October 30, 2008.

Take notice that the Commission received the following electric rate filings:

Docket Numbers: ER08-1126-002; ER07-100-002; ER08-1128-002; ER08-1129-002; ER08-1130-002; ER08-1131-002; ER08-1134-002; ER08-1135-002; ER08-1136-002; ER08-1137-002; ER08-1139-002.

Applicants: Georgia-Pacific Brewton LLC; Koch Supply & Trading, LP; Brunswick Cellulose, Inc.; Georgia-Pacific Cedar Springs LLC; Georgia-Pacific Con Ops LLC Port Hudson; Georgia-Pacific Cons Prods LP Naheola; Georgia-Pacific Cons Prods LP Savannah; Georgia-Pacific LLC Crosset; Georgia-Pacific Monticello LLC; Leaf River Cellulose, LLC.

Description: Georgia-Pacific Applicants et al. request a one-time waiver of Order No. 697 filing requirement under ER08-1126 et al.

Filed Date: 10/22/2008.

Accession Number: 20081028-0141.

Comment Date: 5 p.m. Eastern Time on Wednesday, November 12, 2008.

Docket Numbers: ER09-152-000

Applicants: Pennsylvania Power Company.

Description: Pennsylvania Power Co submits a Notice of Cancellation of the Electric Service Agreement ( Rate Schedule 48) dated 8/8/94 with Borough of Wampum, PA under ER09-152.

Filed Date: 10/29/2008.

Accession Number: 20081030-0051.

Comment Date: 5 p.m. Eastern Time on Wednesday, November 19, 2008.

Docket Numbers: ER09-153-000.

Applicants: Southern Company Services, Inc.

Description: Alabama Power Co. et al. submits materials in support of its request for authorization to use the Companies' updated depreciation rates in the calculation of charges for services provided under ER09-153.

Filed Date: 10/29/2008.

Accession Number: 20081030-0052.

Comment Date: 5 p.m. Eastern Time on Wednesday, November 19, 2008.

Docket Numbers: ER09-154-000.

Applicants: Southern Company Services, Inc.

Description: Alabama Power Co. et al. submits materials in support of its request for authorization to use updated depreciation rates in the calculation of charges for service provided under ER09-154.

Filed Date: 10/29/2008.

Accession Number: 20081030-0053.

Comment Date: 5 p.m. Eastern Time on Wednesday, November 19, 2008.

Docket Numbers: ER09-155-000.

Applicants: Southern Company Services, Inc.

Description: Alabama Power Co. et al. submits materials in support of its request for authorization to use updated depreciation rates in the calculation of charges for service provided under ER09-155.

Filed Date: 10/29/2008.

Accession Number: 20081030-0054.

Comment Date: 5 p.m. Eastern Time on Wednesday, November 19, 2008.

Docket Numbers: ER09-156-000.

Applicants: Southern Company Services, Inc.

Description: Alabama Power Co. et al. submits materials in support of its request for authorization to use updated depreciation rates in the calculation of charges for service provided under ER09-154.

Filed Date: 10/29/2008.

Accession Number: 20081030-0055.

Comment Date: 5 p.m. Eastern Time on Wednesday, November 19, 2008.

Docket Numbers: ER09-157-000.

Applicants: The American Electric Power Service Corp.

Description: AEP Operating Companies submits a third revision to the Interconnection and Local Delivery Service Agreement under ER09-157.

Filed Date: 10/29/2008.

Accession Number: 20081030-0056.

Comment Date: 5 p.m. Eastern Time on Wednesday, November 19, 2008.

Docket Numbers: ER09-158-000.

Applicants: Allegheny Power.

Description: Allegheny Power submits Attachment H-11A to Open Access Transmission Tariff of PJM Interconnection, LLC, FERC Electric Tariff, Sixth Revised Volume 1 under ER09-158.

Filed Date: 10/29/2008.

Accession Number: 20081030-0057.

Comment Date: 5 p.m. Eastern Time on Wednesday, November 19, 2008.

Take notice that the Commission received the following electric securities filings:

Docket Numbers: ES08-62-000; ES08-63-000; ES08-64-000.

Applicants: PSEG Fossil LLC; PSEG Nuclear LLC; PSEG Energy Resources & Trade LLC.

Description: PSEG Power Companies Supplemental Filing to the September 11, 2008 Application for Renewal and Expansion of Authorization to Issue Securities in Connection with Credit Facilities under ES08-62, et al.

Filed Date: 10/30/2008.

Accession Number: 20081030-5072.

Comment Date: 5 p.m. Eastern Time on Monday, November 10, 2008.

Docket Numbers: ES09-9-000.

Applicants: Potomac Edison Company.

Description: Potomac Edison Company Application Under Section 204 to Issue Short-Term Debt Securities in ES09-9.

Filed Date: 10/30/2008.

Accession Number: 20081030-5102.

Comment Date: 5 p.m. Eastern Time on Thursday, November 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-26376 Filed 11-4-08; 8:45 am]

BILLING CODE 6717-01-P